DEPARTMENT OF DEFENSE

Office of the Secretary

[Docket ID: DoD-2013-OS-0004]

Privacy Act of 1974; System of Records

AGENCY: Office of the Secretary of Defense, DoD.

ACTION: Notice to alter a System of Records.

SUMMARY: The Office of the Secretary of Defense proposes to alter a system of records in its inventory of record systems subject to the Privacy Act of 1974 (5 U.S.C. 552a), as amended.

DATES: This proposed action will be effective on February 28, 2013 unless comments are received which result in a contrary determination. Comments will be accepted on or before February 27, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by U.S.C. 552a(r) of the Privacy Act of 1974, as amended, was submitted on January 4, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 23, 2013.
Aaron Siegel,
Alternate OSD Federal Register Liaison Officer, Department of Defense.

DWHS E02

System name:

Freedom of Information Act Case Files (December 8, 2010, 75 FR 76432).

Changes:

* * * * *

System location:

Delete entry and replace with “Washington Headquarters Services (WHS) records: Freedom of Information Division, Executive Services Directorate, Washington Headquarters Services, 4800 Mark Center Drive, Suite 02F09-02, Alexandria, VA 22350-3100.

DoD Education Activity (DoDEA) records: Department of Defense Education Activity, Freedom of Information Act Requester Service Center, Executive Services Office, 4800 Mark Center Drive, Suite 06D08-03, Alexandria, VA 22350-1400.

Assistant Secretary of Defense (Health Affairs)/TRICARE Management Activity (HA/TMA) records: TRICARE Management Activity, Freedom of Information Act Requester Service Center, 16401 East Centretech Parkway, Aurora, CO 80011-9066.”

* * * * *

Categories of records in the system:

Delete entry and replace with “Records created or compiled in response to Freedom of Information Act requests and administrative appeals, i.e., original requests and administrative appeals (including requesters name, mailing address, Freedom of Information Act case number, date and subject of the request, with some requesters also voluntarily submitting additional information such as telephone numbers and email addresses), responses to such requests and administrative appeals; all related memoranda, correspondence, notes, and other related or supporting documentation; and copies of requested records and records under administrative appeal.”

* * * * *

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3) as follows:

To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

The DoD Blanket Routine Uses set forth at the beginning of the Office of the Secretary of Defenses compilation of systems of records notices may apply to this system.”

* * * * *

System manager(s) and address:

Delete entry and replace with “WHS records: Chief, Freedom of Information Division, Executive Services Directorate, Washington Headquarters Services, 4800 Mark Center Drive, Suite 02F09-02, Alexandria, VA 22350-3100.

DoDEA records: Chief, Department of Defense Education Activity, Freedom of Information Act Requester Service Center, Executive Services Office, 4800 Mark Center Drive, Suite 06D08-03, Alexandria, VA 22350-1400.

HA/TMA records: TRICARE Management Activity, ATTN: FOIA Chief, Freedom of Information Act Requester Service Center, 16401 East Centretech Parkway, Aurora, CO 80011-9066.”

Notification procedure:

Delete entry and replace with “Individuals seeking to determine whether information about themselves is contained in this system of records should address written inquiries to:

WHS records: Chief, Freedom of Information Division, Executive Services Directorate, Washington Headquarters Services, 4800 Mark Center Drive, Suite 02F09-02, Alexandria, VA 22350-3100.

DoDEA records: Chief, Department of Defense Education Activity, Freedom of Information Act Requester Service Center, Executive Services Office, 4800 Mark Center Drive, Suite 06D08-03, Alexandria, VA 22350-1400.

HA/TMA records: TRICARE Management Activity, ATTN: FOIA Chief, Freedom of Information Act Requester Service Center, 16401 East Centretech Parkway, Aurora, CO 80011-9066.

Requests should include the requesters name, mailing address, and signature.”

Record access procedures:

Delete entry and replace with “Individuals seeking access to information about themselves contained in this system of records should address written inquires to:

WHS records: Office of the Secretary of Defense/Joint Staff Freedom of Information Act Requester Service Center, Office of Freedom of Information, Washington Headquarters, 4800 Mark Center Drive, Suite 02F09-02, Alexandria, VA 22350-3100.

DoDEA records: Department of Defense Education Activity, Freedom of Information Act Requester Service Center, Executive Services Office, 4800 Mark Center Drive, Suite 06D08-03, Alexandria, VA 22350-1400.

Note: For DoDEA records, a non-custodial parent or legal guardian requesting records pertaining to his or her minor child or ward must also provide evidence of that relationship. For example, such parent or legal guardian may provide a copy of a divorce decree or a child custody or guardianship order that includes the child's name.

HA/TMA records: TRICARE Management Activity, Freedom of Information Act Requester Service Center, 16401 East Centretech Parkway, Aurora, CO 80011-9066.

Requests for information should be in writing, signed, and provide evidence of the requester's identity, such as a copy of a photo ID or passport or similar document bearing the requesters signature. Requests must contain the requesters name, mailing address, Freedom of Information Act case number, name and number of this system of records notice and be signed.”

* * * * *

[FR Doc. 2013-01689 Filed 1-25-13; 8:45 am]

BILLING CODE 5001-06-P